SMALL BUSINESS ADMINISTRATION

[Declaration of Disaster #3550]

Commonwealth of Pennsylvania (Amendment #1)

In accordance with a notice received from the Department of Homeland Security—Federal Emergency Management Agency, effective October 23, 2003, the above numbered declaration is hereby amended to include Blair, Crawford, Lawrence, McKean, Mercer, Potter, Tioga, Venango, Warren, and Wayne Counties as disaster areas due to damages caused by severe storms, tornadoes, and flooding that occurred on July 21, 2003, and continuing through September 12, 2003.

In addition, applications for economic injury loans from small businesses located in the contiguous counties of Bradford, Beaver, Bedford, Butler, Cambria, Cameron, Centre, Clarion, Clearfield, Clinton, Elk, Erie, Forest, Huntingdon, Lycoming, and Pike in Pennsylvania; Allegany, Broome, Cattaraugus, Chautauqua, Chemung, Delaware, Steuben, and Sullivan in New York; and Ashtabula, Columbiana, Mahoning, and Trumbull in Ohio may be filed until the specified date at the previously designated location. All other counties contiguous to the above named primary counties have been previously declared.

The economic injury number assigned to the State of New York is 9X4400 and for the State of Ohio is 9X4500.

All other information remains the same, i.e., the deadline for filing applications for physical damage is November 18, 2003, and for economic injury the deadline is June 21, 2004.

(Catalog of Federal Domestic Assistance Program Nos. 59002 and 59008).

Dated: October 24, 2003.
Cheri L. Cannon,
Acting Associate Administrator for Disaster Assistance.

[FR Doc. 03-27417 Filed 10-30-03; 8:45 am]

BILLING CODE 8025-01-P